DEPARTMENT OF TRANSPORTATION

Federal Aviation Administration

14 CFR Part 39

[Docket No. FAA-2019-0525; Product Identifier 2019-NM-076-AD; Amendment 39-19824; AD 2020-01-18]

RIN 2120-AA64

Airworthiness Directives; The Boeing Company Airplanes

AGENCY: Federal Aviation Administration (FAA), DOT.

ACTION: Final rule; correction.

SUMMARY: The FAA is correcting an airworthiness directive (AD) that published in the Federal Register. That AD applies to all The Boeing Company Model 757 airplanes. As published, the reference for revising the existing maintenance or inspection program specified in the regulatory text is incorrect. This document corrects that error. In all other respects, the original document remains the same.

DATES: This correction is effective March 5, 2020.

The Director of the Federal Register approved the incorporation by reference of a certain publication listed in this AD as of March 5, 2020 (85 FR 5304, January 30, 2020).

The Director of the Federal Register approved the incorporation by reference of certain other publications listed in this AD as of June 30, 2006 (71 FR 30278, May 26, 2006).

ADDRESSES: For service information identified in this final rule, contact Boeing Commercial Airplanes, Attention: Contractual & Data Services (C&DS), 2600 Westminster Blvd., MC 110-SK57, Seal Beach, CA 90740-5600; phone: 562-797-1717; internet: https://www.myboeingfleet.com. You may view this referenced service information at the FAA, Transport Standards Branch, 2200 South 216th St., Des Moines, WA. For information on the availability of this material at the FAA, call 206-231-3195. It is also available on the internet at https://www.regulations.gov by searching for and locating Docket No. FAA-2019-0525.

Examining the AD Docket

You may examine the AD docket on the internet at https://www.regulations.gov; or in person at the Docket Management Facility between 9 a.m. and 5 p.m., Monday through Friday, except Federal holidays. The AD docket contains this AD, the regulatory evaluation, any comments received, and other information. The address for Docket Operations is Docket Management Facility, U.S. Department of Transportation, Docket Operations, M-30, West Building Ground Floor, Room W12-140, 1200 New Jersey Avenue SE, Washington, DC 20590.

FOR FURTHER INFORMATION CONTACT: Chandraduth Ramdoss, Aerospace Engineer, Airframe Section, FAA, Los Angeles ACO Branch, 3960 Paramount Boulevard, Lakewood, CA 90712-4137; phone: 562-627-5239; fax: 562-627-5210; email: chandraduth.ramdoss@faa.gov.

SUPPLEMENTARY INFORMATION: As published, AD 2020-01-18, Amendment 39-19824 (85 FR 5304, January 30, 2020) (“AD 2020-01-18”), requires incorporating a new revision to the Airworthiness Limitations section of the Instructions for Continued Airworthiness to mandate certain repetitive inspections for fatigue cracking of principal structural elements (PSEs), and revising the existing maintenance or inspection program, as applicable, to incorporate additional new or more restrictive airworthiness limitations, for all The Boeing Company Model 757 airplanes.

Need for the Correction

As published, the service information reference for revising the existing maintenance or inspection program specified in the regulatory text is incorrect. The incorrectly specified reference was Boeing 757 Maintenance Planning Data (MPD) Document, Section 9, Airworthiness Limitations (AWLs) and Certification Maintenance Requirements (CMRs), D622N001-9, Revision October 2018, which did not include reference to Subsection B. The correct reference is Subsection B., “Airworthiness Limitations—Structural Inspections,” of Boeing 757 Maintenance Planning Data (MPD) Document, Section 9, Airworthiness Limitations (AWLs) and Certification Maintenance Requirements (CMRs), D622N001-9, Revision October 2018.

Related Service Information Under 1 CFR Part 51

The FAA reviewed Boeing 757 Maintenance Planning Data (MPD) Document, Section 9, Airworthiness Limitations (AWLs) and Certification Maintenance Requirements (CMRs), D622N001-9, Revision October 2018. This service information describes procedures for airworthiness limitations for structural inspections, fuel tank systems, safe life limits, and certification maintenance requirements.

This AD also requires the following service information, which the Director of the Federal Register approved for incorporation by reference as of June 30, 2006 (71 FR 30278, May 26, 2006).

• Boeing 757 Maintenance Planning Data (MPD) Document, Section 9, “Airworthiness Limitations and Certification Maintenance Requirements,” Subsection B. of Boeing Document D622N001-9, Revision “May 2003.”

• Boeing 757 Maintenance Planning Data (MPD) Document, Section 9, “Airworthiness Limitations and Certification Maintenance Requirements,” Subsection B. of Boeing Document D622N001-9, Revision “June 2005.”

This service information is reasonably available because the interested parties have access to it through their normal course of business or by the means identified in the ADDRESSES section.

Correction of Publication

This document corrects an error and correctly adds the AD as an amendment to 14 CFR 39.13. Although no other part of the preamble or regulatory information has been corrected, we are publishing the entire rule in the Federal Register.

The effective date of this AD remains March 5, 2020.

Since this action only corrects the service information reference for revising the existing maintenance or inspection program specified in the regulatory text, it has no adverse economic impact and imposes no additional burden on any person. Therefore, the FAA has determined that notice and public comment procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by adding the following new airworthiness directive (AD):

2020-01-18 The Boeing Company: Amendment 39-19824; Docket No. FAA-2019-0525; Product Identifier 2019-NM-076-AD.

(a) Effective Date

This AD is effective March 5, 2020.

(b) Affected ADs

This AD replaces AD 2006-11-11, Amendment 39-14615 (71 FR 30278, May 26, 2006) (“AD 2006-11-11”).

(c) Applicability

(1) This AD applies to all The Boeing Company Model 757-200, -200PF, -200CB, and -300 series airplanes, certificated in any category.

(2) Installation of Supplemental Type Certificate (STC) ST01518SE affects the ability to accomplish the actions required by this AD. Therefore, for airplanes on which STC ST01518SE is installed, a “change in product” alternative method of compliance (AMOC) approval request is necessary to comply with the requirements of 14 CFR 39.17.

(d) Subject

Air Transport Association (ATA) of America Code 28, Fuel; 53, Fuselage; 57, Wings.

(e) Unsafe Condition

This AD was prompted by a determination that new or more restrictive airworthiness limitations are necessary. The FAA is issuing this AD to address fatigue cracking of various principal structural elements (PSEs); such fatigue cracking could adversely affect the structural integrity of these airplanes.

(f) Compliance

Comply with this AD within the compliance times specified, unless already done.

(g) Retained Revision to the Maintenance or Inspection Program, With No Changes

This paragraph restates the requirements of paragraph (h) of AD 2006-11-11, with no changes. Within 36 months after June 30, 2006 (the effective date of AD 2006-11-11), revise Section 9, “Airworthiness Limitations and CMRs” of the Boeing 757 Maintenance Planning Data (MPD) Document to incorporate Subsection B. of Boeing Document D622N001-9, Revision “May 2003;” or Revision “June 2005;” as applicable.

(h) New Maintenance or Inspection Program Revision

(1) Except for airplanes identified in paragraph (h)(2) of this AD: Within 18 months after the effective date of this AD, revise the existing maintenance or inspection program, as applicable, to incorporate the information specified in Subsection B., “Airworthiness Limitations—Structural Inspections,” of Boeing 757 Maintenance Planning Data (MPD) Document, Section 9, Airworthiness Limitations (AWLs) and Certification Maintenance Requirements (CMRs), D622N001-9, Revision October 2018. The initial compliance time for doing the new or updated tasks is at the time specified in Subsection B., “Airworthiness Limitations—Structural Inspections,” of Boeing 757 Maintenance Planning Data (MPD) Document, Section 9, Airworthiness Limitations (AWLs) and Certification Maintenance Requirements (CMRs), D622N001-9, Revision October 2018, or within 18 months after the effective date of this AD, whichever occurs later. The compliance time for doing the unchanged tasks is at the time specified in Subsection B., “Airworthiness Limitations—Structural Inspections,” of Boeing 757 Maintenance Planning Data (MPD) Document, Section 9, Airworthiness Limitations (AWLs) and Certification Maintenance Requirements (CMRs), D622N001-9, Revision October 2018.

(2) For airplanes with STC ST01518SE installed: Within 18 months after the effective date of this AD, revise the existing maintenance or inspection program, as applicable, to incorporate a supplemental program to address the effect of STC ST01518SE, in accordance with the procedures specified in paragraph (l) of this AD.

(i) No Alternative Actions, Intervals, or Critical Design Configuration Control Limitations (CDCCLs) for Paragraph (g) of This AD

Except as required by paragraph (h) of this AD: After the existing maintenance or inspection program has been revised as required by paragraph (g) of this AD, no alternative actions (e.g., inspections), intervals, or CDCCLs may be used unless the actions, intervals, and CDCCLs are approved as an alternative method of compliance (AMOC) in accordance with the procedures specified in paragraph (l) of this AD.

(j) No Alternative Actions, Intervals, or CDCCLs for Paragraph (h) of This AD

After the existing maintenance or inspection program has been revised as required by paragraph (h) of this AD, no alternative actions (e.g., inspections), intervals, or CDCCLs may be used unless the actions, intervals, and CDCCLs are approved as an AMOC in accordance with the procedures specified in paragraph (l) of this AD.

(k) Terminating Action for the Requirements of Paragraph (g) of This AD

Accomplishing the revision required by paragraph (h) of this AD terminates the revision required by paragraph (g) of this AD.

(l) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (m) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Los Angeles ACO Branch, FAA, to make those findings. To be approved, the repair method, modification deviation, or alteration deviation must meet the certification basis of the airplane, and the approval must specifically refer to this AD.

(4) AMOCs approved previously for AD 2001-20-12, Amendment 39-12460 (66 FR 52492, October 16, 2001), and AD 2006-11-11, are approved as AMOCs for the corresponding provisions of this AD.

(m) Related Information

For more information about this AD, contact Chandraduth Ramdoss, Aerospace Engineer, Airframe Section, FAA, Los Angeles ACO Branch, 3960 Paramount Boulevard, Lakewood, CA 90712-4137; phone: 562-627-5239; fax: 562-627-5210; email: chandraduth.ramdoss@faa.gov.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 5, 2020 (85 FR 5304, January 30, 2020).

(i) Boeing 757 Maintenance Planning Data (MPD) Document, Section 9, Airworthiness Limitations (AWLs) and Certification Maintenance Requirements (CMRs), D622N001-9, Revision October 2018.

(ii) [Reserved]

(4) The following service information was approved for IBR on June 30, 2006 (71 FR 30278, May 26, 2006).

(i) Boeing 757 Maintenance Planning Data Document, Section 9, “Airworthiness Limitations and Certification Maintenance Requirements,” Subsection B. of Boeing Document D622N001-9, Revision “May 2003.”

(ii) Boeing 757 Maintenance Planning Data Document, Section 9, “Airworthiness Limitations and Certification Maintenance Requirements,” Subsection B. of Boeing Document D622N001-9, Revision “June 2005.”

(5) For service information identified in this AD, contact Boeing Commercial Airplanes, Attention: Contractual & Data Services (C&DS), 2600 Westminster Blvd., MC 110-SK57, Seal Beach, CA 90740-5600; phone: 562-797-1717; internet: https://www.myboeingfleet.com.

(6) You may view this service information at the FAA, Transport Standards Branch, 2200 South 216th St., Des Moines, WA. For information on the availability of this material at the FAA, call 206-231-3195.

(6) You may view this service information that is incorporated by reference at the National Archives and Records Administration (NARA). For information on the availability of this material at NARA, email fedreg.legal@nara.gov, or go to: https://www.archives.gov/federal-register/cfr/ibr-locations.html.

Issued on February 20, 2020.
Lance T. Gant, Director,
Compliance & Airworthiness Division, Aircraft Certification Service.

[FR Doc. 2020-03829 Filed 2-25-20; 8:45 am]

BILLING CODE 4910-13-P